DEPARTMENT OF LABOR

Employment and Training Administration

[TA-W-73,874]

The Wise Company, Inc. (B&M Seating), 3750 Industrial Drive, Carlyle, IL; Amended Certification Regarding Eligibility To Apply for Worker Adjustment Assistance

In accordance with Section 223 of the Trade Act of 1974, as amended (“Act”), 19 U.S.C. 2273, the Department of Labor issued a Certification of Eligibility to Apply for Worker Adjustment Assistance on September 29, 2010, applicable to workers of The Wise Company, Inc., Memphis, Tennessee. The notice was published in the Federal Register on October 15, 2010 (75 FR 63510).

At the request of a State workforce official, the Department reviewed the certification for workers of the subject firm. The Wise Company, Inc. workers are engaged in activities related to the production of boat seats.

New information shows that the Department did not correctly state the subject firm location on the certification decision. The correct location of the subject firm should read 3750 Industrial Drive, Carlyle, Illinois.

Accordingly, the Department is amending this certification to correct the location of the subject firm to read 3750 Industrial Drive, Carlyle, Illinois.

The amended notice applicable to TA-W-73,874 is hereby issued as follows:

All workers of The Wise Company, (B & M Seating), 3750 Industrial Drive, Carlyle, Illinois, who became totally or partially separated from employment on or after April 6, 2009, through September 29, 2012, and all workers in the group threatened with total or partial separation from employment on the date of certification through two years from the date of certification, are eligible to apply for adjustment assistance under Chapter 2 of Title II of the Trade Act of 1974, as amended.

Signed at Washington, DC, this 21st day of October 2010.
Elliott S. Kushner,
Certifying Officer, Division of Trade Adjustment Assistance.

[FR Doc. 2010-27390 Filed 10-28-10; 8:45 am]

BILLING CODE 4510-FN-P